DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting of the Sanctuary System Business Advisory Council (council). The meeting is open to the public, and participants may provide comments at the appropriate time during the meeting.

DATES: Members of the public wishing to participate in the meeting must register in advance by Friday, May 20, 2016. The meeting will be held Monday, May, 23, 2016 from 1:30 p.m. to 6:30 p.m. EDT, and an opportunity for public comment will be provided at 5:45 p.m. EDT. These times and the agenda topics described below are subject to change.

ADDRESSES: The meeting will be held at the Florida Keys Eco-Discovery Center, 35 East Quay Road, Key West, Florida 33040. Since the center is closed on Mondays, admittance may be limited to the conference room, except during the time allotted for a scheduled tour. Register by contacting Rebecca Holyoke at 240-533-0685 or Rebecca.Holyoke@noaa.gov.

FOR FURTHER INFORMATION CONTACT: Rebecca Holyoke, Office of National Marine Sanctuaries, 1305 East West Highway, Silver Spring, Maryland 20910 (Phone: 240-533-0685; Fax: 301-713-0404; Email: Rebecca.Holyoke@noaa.gov).

SUPPLEMENTARY INFORMATION: ONMS serves as the trustee for a network of underwater parks encompassing more than 170,000 square miles of marine and Great Lakes waters from Washington state to the Florida Keys, and from Lake Huron to American Samoa. The network includes a system of 13 national marine sanctuaries and Papahānaumokuākea and Rose Atoll marine national monuments. National marine sanctuaries protect our Nation's most vital coastal and marine natural and cultural resources, and through active research, management, and public engagement, sustain healthy environments that are the foundation for thriving communities and stable economies. One of the many ways ONMS ensures public participation in the designation and management of national marine sanctuaries is through the formation of advisory councils. The Sanctuary System Business Advisory Council (council) has been formed to provide advice and recommendations to the Director regarding the relationship of ONMS with the business community. Additional information on the council can be found at http://sanctuaries.noaa.gov/management/ac/welcome.html.

Matters to be Considered: The meeting will provide an opportunity for council members to visit a national marine sanctuary, Florida Keys National Marine Sanctuary, for the first time and learn about the site's history, resources, and staff. The council will be introduced to representatives from several of the sanctuary's user groups in order to hear different perspectives on the users and conflicts associated with managing a multi-use area. Additionally, the council will receive a tour of the Florida Keys Eco-Discovery Center that will serve as a point of comparison to discuss current and brainstorm new strategies in which ONMS might maximize visitor engagement everywhere a sanctuary is present. The agenda, available at http://sanctuaries.noaa.gov/management/bac/meetings.html, is subject to change.

Authority: 16 U.S.C. Sections 1431, et seq.

(Federal Domestic Assistance Catalog Number 11.429 Marine Sanctuary Program)

Dated: April 12, 2016.
John Armor,
Acting Director, Office of National Marine Sanctuaries, National Ocean Service, National Oceanic and Atmospheric Administration.

[FR Doc. 2016-10782 Filed 5-6-16; 8:45 am]

BILLING CODE 3510-NK-P